DEPARTMENT OF TRANSPORTATION

Maritime Administration

[USCG-2006-28532]

Port Dolphin Energy LLC, Port Dolphin Energy Liquefied Natural Gas Deepwater Port License Application; Final Application Public Hearing and Final Environmental Impact Statement

AGENCY: Maritime Administration, DOT.

ACTION: Notice of availability; notice of public hearing; request for comments.

SUMMARY: The Maritime Administration and the U.S. Coast Guard (USCG) announce the availability of the Final Environmental Impact Statement (FEIS) for Port Dolphin Energy LLC, Port Dolphin Energy Liquefied Natural Gas Deepwater Port license application. The application describes a project that would be located approximately 28 miles off the western coast of Florida, and approximately 42 miles from Port Manatee, Manatee County, Florida. The Maritime Administration and Coast Guard request public comments on the FEIS and application. Publication of this notice begins a 45-day comment period and provides information on how to participate in the process.

DATES: A public hearing will be held in Palmetto, Florida on July 28, 2009. The public hearing will be held from 5 p.m. to 7 p.m. and will be preceded by an informational open house from 3 p.m. to 4:30 p.m. The public hearing may end later than the stated time, depending on the number of persons wishing to speak.

Material submitted in response to the request for comments on the FEIS and application must reach the Docket Management Facility by August 23, 2009.

Federal and State agencies must also submit comments, recommended conditions for licensing, or letters of no objection by September 11, 2009. Also by September 11, 2009, the Governor of Florida (the adjacent coastal state) may approve, disapprove, or notify the Maritime Administration of inconsistencies with State programs relating to environmental protection, land and water use, and coastal zone management for which the Maritime Administration may condition the license to make consistent.

The Maritime Administration must issue a record of decision (ROD) to approve, approve with conditions, or deny the DWP license application by October 26, 2009.

ADDRESSES: The public hearing in Palmetto will be held at the Manatee Convention Center, 1 Haben Blvd., Palmetto, Florida, 34221; telephone: (941) 722-3244.

The FEIS, the application, comments and associated documentation are available for viewing at the Federal Docket Management System Web site: http://www.regulations.gov under docket number USCG-2006-28532. The FEIS is also available at the following public libraries:

Central Library—Bradenton, FL 34205

Braden River Library—Bradenton, FL 34203

South Manatee Branch—Bradenton, FL 34207

Palmetto Branch Library—Palmetto, FL 34221

Rocky Bluff Library—Ellenton, FL 34222

Island Branch Library—Holmes Beach, FL 34217

Docket submissions for USCG-2006-28532 should be addressed to: Department of Transportation, Docket Management Facility, West Building, Ground Floor, Room W12-140, 1200 New Jersey Avenue, SE., Washington, DC 20590-0001.

The Federal Docket Management Facility accepts hand-delivered submissions, and makes docket contents available for public inspection and copying at this address between 9 a.m. and 5 p.m., Monday through Friday, except Federal holidays. The Facility telephone number is 202-366-9329, the fax number is 202-493-2251, and the Web site for electronic submissions or for electronic access to docket contents is http://www.regulations.gov.

FOR FURTHER INFORMATION CONTACT: Ray Martin, U.S. Coast Guard, telephone: 202-372-1449, e-mail: Raymond.W.Martin@uscg.mil or Chris Hanan, U.S. Maritime Administration, telephone: 202-366-1900, e-mail: Christopher.Hanan@dot.gov. If you have questions on viewing the docket, call Renee V. Wright, Program Manager, Docket Operations, telephone 202-493-0402.

SUPPLEMENTARY INFORMATION:

Request for Comments

We request public comments or other information on the FEIS and application. The public hearing is not the only opportunity you have to comment. In addition to or in place of attending a hearing, you can submit comments to the Docket Management Facility during the public comment period (see DATES). The Coast Guard and the Maritime Administration will consider all comments and material received during the comment period.

Submissions should include:

• Docket number USCG-2006-28532.

• Your name and address.

Submit comments or material using only one of the following methods:

• Electronic submission to FDMS, http://www.regulations.gov.

• Fax, mail, or hand delivery to the Docket Management Facility (see ADDRESSES). Faxed or hand delivered submissions must be unbound, no larger than 8½ by 11 inches, and suitable for copying and electronic scanning. If you mail your submission and want to know when it reaches the Facility, include a stamped, self-addressed postcard or envelope.

Regardless of the method used for submitting comments or material, all submissions will be posted, without change, to the FDMS Web site (http://www.regulations.gov), and will include any personal information you provide. Therefore, submitting this information makes it public. You may wish to read the Privacy and Use Notice that is available on the FDMS Web site, and the Department of Transportation Privacy Act Notice that appeared in the Federal Register on April 11, 2000 (65 FR 19477), see PRIVACY ACT.

Background

Information about deepwater ports, the statutes, and regulations governing their licensing, and the receipt of the current application for a liquefied natural gas (LNG) deepwater port was published in the Federal Register in Volume 72 FR 34741, on June 25, 2007. The Notice of Intent to Prepare an EIS for the proposed action was published in the Federal Register in Volume 72 FR 38116, on July 12, 2007 and the Notice of Availability of the Draft EIS was published in Volume 73 FR 21012, on April 17, 2008. The FEIS, application materials and associated comments are available on the docket. Information from the “Summary of the Application” from previous Federal Register notices is included below for your convenience.

Proposed Action and Alternatives

The proposed action requiring environmental review is the Federal licensing of the proposed deepwater port described in “Summary of the Application” below. The alternatives to licensing the proposed port are: (1) Licensing with conditions (including conditions designed to mitigate environmental impact), and (2) denying the application, which for purposes of environmental review is the “no-action” alternative. These alternatives are more fully discussed in the FEIS. The Coast Guard and the Maritime Administration are the lead Federal agencies for the preparation of the EIS. You can address any questions about the proposed action or the FEIS to the Coast Guard project manager identified in FOR FURTHER INFORMATION CONTACT.

Summary of the Application

Port Dolphin Energy LLC, proposes to own, construct, and operate a deepwater port, named Port Dolphin, in the Federal waters of the Outer Continental Shelf in the St. Petersburg (PB) blocks: PB545 and PB589, approximately 28 miles off the west coast of Florida to the southwest of Tampa Bay, in a water depth of approximately 100 feet. Port Dolphin would consist of a permanently moored unloading buoy system with two submersible buoys separated by a distance of approximately three miles. Each unloading buoy would be permanently secured to eight mooring lines, consisting of wire rope, chain, and buoyancy elements, each attached to anchor points on the seabed. Anchor points would consist most likely of driven piles.

The buoys would be designed to moor specialized type of LNG vessels called Shuttle and Regasification Vessels (SRVs) of 145,000 and 217,000 cubic meter capacities. SRVs are equipped to vaporize cryogenic LNG cargo to natural gas through an onboard closed loop vaporization system, and meter gas for send-out by means of the unloading buoy to conventional subsea pipelines. The SRVs would moor to the unloading buoys which connect through the hull of the vessels to specially designed turrets that would enable the vessels to weathervane or rotate in response to prevailing wind, wave, and current directions. When the vessels are not present, the buoys would be submerged on a special landing pad on the seabed, 60-70 feet below the sea surface.

Each unloading buoy would connect through a 16-inch flexible riser and a 36-inch flowline to a Y intersection and then a 36-inch pipeline approximately 42 miles in length that would connect onshore in Port Manatee, Manatee County, Florida. The pipeline would connect with the Gulfstream Natural Gas System, LLC and Tampa Electric Company (TECO).

The 36-inch gas transmission line will make landfall on Port Manatee property. From there, the transmission pipeline will proceed in a generally easterly direction to the first interconnection point with the Gulfstream system at 4 miles. The Gulfstream/TECO Interconnection Station will occupy an approximately 3.4-acre site. Up to approximately 70 percent of the natural gas is expected to be delivered to the Gulfstream pipeline and 30 percent to the TECO pipeline.

Only shuttle and regasification vessels (SRVs) will call on Port Dolphin. Offloading should require between 4-8 days and when empty the SRV would disconnect from the buoy and leave the port. Port Dolphin would have an average throughput capacity of 800 MMscfd with a peak capacity of 1200 MMscfd. The two separate buoys would allow natural gas to be delivered in a continuous flow, without interruption, by having a brief overlap between arriving and departing SRVs.

Port Dolphin Energy LLC is seeking Federal Energy Regulatory Commission (FERC) approval for the onshore pipelines concurrent with this deepwater port application. As required by FERC regulations, FERC will also maintain a docket for the FERC portion of the project. The docket numbers are CP07-191-000 and CP07-192-000. The filing may also be viewed on the web at http://www.ferc.gov using the “eLibrary” link. Enter the docket number excluding the last three digits in the docket number field to access the document. For assistance, call (866) 208-3767 or TYY, (202) 502-8659.

In addition, pipelines and structures such as the moorings may require permits under Section 404 of the Clean Water Act and Section 10 of the Rivers and Harbors Act which are administered by the Army Corps of Engineers (USACE).

Port Dolphin will also require permits from the Environmental Protection Agency (EPA) pursuant to the provisions of the Clean Air Act, as amended, and the Clean Water Act, as amended.

Construction of the deepwater port would be expected to take approximately 11 months with startup of commercial operations following construction, should a license be issued. The deepwater port would be designed, constructed and operated in accordance with applicable codes and standards.

Privacy Act

The electronic form of all comments received into the Federal Docket Management System can be searched by the name of the individual submitting the comment (or signing the comment, if submitted on behalf of an association, business, labor union, etc.). The DOT Privacy Act Statement can be viewed in the Federal Register published on April 11, 2000 (Volume 65, Number 70, pages 19477-78) or you may visit http://www.regulations.gov.

(Authority 49 CFR 1.66)

Dated: July 2, 2009.
By Order of the Maritime Administrator.
Christine Gurland,
Acting Secretary, Maritime Administration.

[FR Doc. E9-16502 Filed 7-10-09; 8:45 am]

BILLING CODE P